DEPARTMENT OF ENERGY

Agency Information Collection Extension

AGENCY: Department of Energy.

ACTION: Notice and request for comments.

SUMMARY: The Department of Energy (DOE), pursuant to the Paperwork Reduction Act of 1995, intends to extend for three years, an information collection request with the Office of Management and Budget (OMB). Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before August 31, 2010. If you anticipate difficulty in submitting comments within that period, contact the person listed below as soon as possible.

ADDRESSES: Written comments may be sent to Anne Broker, GC-12, U.S. Department of Energy, Office of Conflict Prevention and Resolution, 1000 Independence Avenue, SW., Washington, DC 20585 or by fax at 202-586-4116 or by e-mail at anne.broker@hq.doe.gov.

FOR FURTHER INFORMATION CONTACT: Anne Broker at 202-586-5060 or anne.broker@hq.doe.gov.

SUPPLEMENTARY INFORMATION: This information collection request contains: (1) OMB No. 1910-5115; (2) Information Collection Request Title: Contractor Legal Management Requirements; (3) Type of Review: Renewal; (4) Purpose: The collection of this information continues to be necessary to provide a basis for DOE decisions on requests, from applicable contractors, for reimbursement of litigation and other legal expenses; (5) Annual Estimated Number of Respondents: 36; (6) Annual Estimated Number of Total Responses: 36; (7) Annual Estimated Number of Burden Hours: 515; (8) Annual Estimated Reporting and Recordkeeping Cost Burden: None. The costs incurred by the DOE contractors in providing the information collections in this package are recovered in their contract fees and payments.

Statutory Authority: These requirements are promulgated under authority in section 161 of the Atomic Energy Act of 1954, 42 U.S.C. 2201; the Department of Energy Organization Act, 42 U.S.C. 7101, et seq.; and the National Nuclear Security Administration Act, 50 U.S.C. 2401, et seq.

Issued in Washington, DC, on June 28, 2010.
Kathleen M. Binder,
Director, Office of Conflict Prevention and Resolution, Office of General Counsel.

[FR Doc. 2010-16241 Filed 7-1-10; 8:45 am]

BILLING CODE 6450-01-P